DEPARTMENT OF THE INTERIOR

National Park Service

[NPS-PWR-PWRO-13760; PX.P0137227A.00.1]

Final Environmental Impact Statement for Cottonwood Cove and Katherine Landing Development Concept Plans, Lake Mead National Recreation Area, Arizona and Nevada

AGENCY: National Park Service, Interior.

ACTION: Notice of availability.

SUMMARY: The National Park Service announces availability of the Final Environmental Impact Statement (EIS) for the Cottonwood Cove and Katherine Landing Development Concept Plans, Lake Mead National Recreation Area. The document describes and analyzes three alternatives. Alternative 1 (no action alternative) reflects current management direction and serves as a baseline for comparison with the other alternatives. Existing facilities would be retained with minimal changes. Alternative 2 Implement Previous Planning Proposals would implement previous planning proposals that separate day use and marina facilities, maintain the type of overnight facilities, and provide flood mitigation. Alternative 3 Enhance Visitor Experience and Park Operations (agency-preferred alternative) would enhance day-use opportunities, upgrade and expand the type of overnight facilities, and provide flood mitigation. The Final EIS also analyzes the potential environmental impacts of the alternatives, including: Potential impacts to native plant communities and soils; wildlife; threatened, endangered, and special status species; floodplains; archeological resources; historic structures; cultural landscape; ethnographic resources; visitor use, experience, and safety; park operations; and socioeconomic environment.

DATES: The Record of Decision for the Cottonwood Cove and Katherine Landing Development Concept Plans will be executed not sooner than 30 days after the date of publication by the Environmental Protection Agency of its notice of filing of the Final EIS in the Federal Register.

ADDRESSES: The Final EIS is available for public inspection at http://parkplanning.nps.gov.lake, and in the office of the Superintendent, Lake Mead National Recreation Area, 601 Nevada Way, Boulder City, NV 89005, (702) 293-8920.

FOR FURTHER INFORMATION CONTACT: Mr. Jim Holland, Park Planner, Lake Mead National Recreation Area, 601 Nevada Highway, Boulder City, NV 89005, (702) 293-8986.

SUPPLEMENTARY INFORMATION: The purposes of the development concept plans are to reevaluate the implementation strategies for these two areas that were identified in the 1986 Lake Mead National Recreation Area General Management Plan/Development Concept Plans/Final Environmental Impact Statement (GMP), and to incorporate the concepts and carrying capacities that were approved in the 2003 Lake Mead National Recreation Area Lake Management Plan/Final Environmental Impact Statement (LMP). Each development concept plan provides an integrated plan for development with site-specific guidance for the extent, type, and location of facilities and services that is consistent with the management direction and intent established in the GMP and the LMP.

The GMP addressed the need to provide recreational opportunities while preserving and protecting natural and cultural resources. It established land-based management zones and included development concept plans for Cottonwood Cove and Katherine Landing that identified limits on the development, established the number and type of facilities, and addressed flood hazards. The GMP's vision for both areas was to accommodate increasing use, enhance the visitor experience, and mitigate flood hazards. The LMP established water-based management zones and provided further guidance for the long-term protection of park resources while allowing a range of recreational opportunities to support visitor needs. A number of the management actions identified in both approved plans require more site-specific development planning. There are also a number of management issues that have not been adequately addressed or resolved in the previous planning efforts and that require a more detailed examination of development and operational needs. The primary issues addressed in the Final EIS are as follows: (1) Water quality and flood control; (2) air quality; (3) socioeconomics guiding policies, regulations, and laws; and (4) Park operations methodologies and assumptions.

Decision Process: Not sooner than 30 days after the publication of the Environmental Protection Agency's notice of filing of the Final EIS in the Federal Register, a Record of Decision will be executed. As a delegated EIS, the official responsible for approval of the Cottonwood Cove and Katherine Landing Development Concept Plans is the NPS Regional Director, Pacific West Region. Subsequently the official responsible for project implementation and for monitoring results is the Superintendent, Lake Mead National Recreation Area.

Dated: September 17, 2014.
Patricia L. Neubacher,
Acting Regional Director, Pacific West Region.

[FR Doc. 2014-26824 Filed 11-12-14; 8:45 am]

BILLING CODE 4312-FF-P